DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held April 19-21, 2005, from 9 a.m. to 5 p.m.

ADDRESSES: The meeting will be held at RTCA, Inc., 1828 L Street, NW., Suite 805, Washington, DC, 20036.

FOR FURTHER INFORMATION CONTACT: RTCA Secretariat, 1828 L Street, SW., Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• April 19:

• Opening Plenary Session (Welcome and Introductory Remarks, Review of Agenda, Review Summary of Previous Meeting).

• Re-visit EUROCAE coordination process for DO-186a/ED23B difference resolution and final review and comment (FRAC) status of draft DO-186B.

• Resolve FRAC comments on draft DO-224B, Signal-in-Space Minimum Aviation System Performance Standard (MASPS) for Advanced VHG Digital Data Communications Including Compatibility with Digital Voice Status.

• April 20:

• Continue with resolution of FRAC comments on draft DO-224B.

• April 21:

• Convene Working Group-3

• Discuss work on DO-281, Rev A, Minimum Operational Performance Standards for Aircraft VDL Mode 2 Physical, Link and Network Layer.

• Discuss work on DO-271B, Rev C, Minimum Operational Performance Standards for VDL Mode 3 Transceiver Operating in the Frequency Range 117.975-137.000 MHz.

• Reconvene Plenary.

• Review relevant activities.

• International Civil Aviation Organization (ICAO) Aeronautical Mobile Communications Panel work.

• NEXCOM activities.

• EUROCAE WG-47 status and issues.

• Others as appropriate.

• Closing Plenary Session (Other Business, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 29, 2005.
Natalie Ogletree,
FAA General Engineer, RTCA Advisory Committee.

[FR Doc. 05-7187 Filed 4-8-05; 8:45 am]

BILLING CODE 4910-13-M